DEPARTMENT OF ENERGY

Federal Energy Regulatory Commission

Notice of Application Accepted for Filing and Soliciting Comments, Protests, and Motions To Intervene

April 16, 2007.

Take notice that the following hydroelectric application has been filed with the Commission and is available for public inspection:

a. Type of Application: Preliminary Permit.

b. Project No.: 12784-000.

c. Date filed: March 8, 2007.

d. Applicant: Mt. Hope Waterpower Project LP.

e. Name and Location of Project: The Mount Hope Pumped Storage Project would use water from the Mt. Hope Mine and would be built in the vicinity of Rockaway Township in Morris County, New Jersey.

f. Filed Pursuant to: Federal Power Act, 16 U.S.C. 791(a)-825(r).

g. Applicant contact: Mr. Sam Ramiz, Mt. Hope Waterpower Project LP, 627 Mt. Hope Road, Wharton, NJ 07885-2837, (201) 361-1072.

h. FERC Contact: Tom Papsidero, (202) 502-6002.

i. Deadline for filing comments, protests, and motions to intervene: 60 days from the issuance date of this notice.

All documents (original and eight copies) should be filed with Kimberly D. Bose, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-12784-000) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities and Proposed Project: The proposed pumped storage project would be comprised of four developments, each with a powerhouse and an upper and lower reservoir. The proposed project would be constructed in four stages as follows:

(1) Stage 1 of the project would consist of the following features: (a) A new upper reservoir on a 60 acre site excavated through quarrying operation and having a surface area of 45 acres to be constructed on an upland site, a 60 acre tract west of Mount Hope Lake. The upper reservoir would provide total storage of 3,400 to 4,100 acre-feet. During operation, the normal maximum water surface elevation in the upper reservoir would be 900 feet msl. The upper reservoir would be filled with water pumped out of the Mount Hope Mine Complex. The Mt. Hope inactive mine would provide access to the lower reservoir located at 1,000 feet below the ground surface comprised of underground caverns; (b) a reinforced concrete intake/outtake structure capable of discharging 1,500 cubic feet per second (cfs); (c) a 10-foot-diameter, 1,300-foot-long reinforced concrete vertical intake shaft; (d) a 300-foot-long, 8-foot-diameter concrete-lined steel underground penstock; (e) a powerhouse machine hall approximately 1,300 feet below ground level containing one reversible pump turbine with a total installed generating capacity of 250 megawatts (MW); (f) a transformer hall; (g) a lower reservoir; (h) a ventilation shaft and ventilation building at the northern end of the lower reservoir; and (i) various ancillary access shafts and tunnels.

(2) Stage 2 of the project would consist of the following features: (a) The lower reservoir utilized in Stage 1, located 1,000 feet below the ground surface, would serve as the upper reservoir in Stage 2, and would have a total storage capacity of 4,900 to 5,800 acre-feet. During operation, the normal maximum water surface elevation in the upper reservoir would be 900 feet below the ground surface, and the normal minimum water surface elevation would be 1,000 feet below the ground surface. The upper reservoir would be partially filled with water pumped out of the Mount Hope Mine Complex; (b) the Mt. Hope inactive mine would provide access to the lower reservoir, comprised of underground caverns, located 1,700 feet below the ground surface; (c) a reinforced concrete intake/outtake structure capable of discharging 1,500 cfs; (d) a 10-foot-diameter, 1,000-foot-long reinforced concrete vertical intake structure; (e) a 300-foot-long, 8-foot-diameter concrete-lined underground penstock; (f) a powerhouse machine hall approximately 2,000 feet below ground level containing one reversible pump turbine with a total installed generating capacity of 250 MW; (g) a transformer hall; (h) a lower reservoir; (i) a ventilation shaft and ventilation building at the northern end of the lower reservoir; and (j) various ancillary access shafts and tunnels.

(3) Stage 3 of the project would consist of the following features: (a) An upper reservoir which would consist of the lower reservoir used in Stage 2, located 1,700 feet below the ground surface. The upper reservoir would be partially filled with water pumped out of the Mount Hope Mine and would have a total storage capacity of 4,250 to 4,900 acre-feet. The upper reservoir would have a maximum water surface elevation of 1,600 feet below the ground surface, and the normal minimum water surface elevation would be 1,700 feet below the ground surface; (b) the Mr. Hope inactive mine would provide access to the lower reservoir, comprised of underground caverns, located 2,500 feet below the ground surface; (c) a reinforced concrete intake/outtake structure capable of discharging 1,500 cfs; (d) a 10-foot-diameter, 1,100-foot-long reinforced concrete vertical intake shaft; (e) a 300-foot-long, 8-foot-diameter concrete-lined underground penstock; (f) a powerhouse machine hall approximately 2,800 feet below ground containing a reversible pump turbine with a total installed generating capacity of 250 MW; (g) a transformer hall; (h) a lower reservoir; (i) a ventilation shaft and ventilation building at the northern end of the lower reservoir; and (j) various ancillary access shafts and tunnels.

(4) Stage 4 of the project would consist of the following features: (a) An upper reservoir which would consist of the lower reservoir of Stage 2, located 1,700 feet below the ground surface. The upper reservoir would be filled to its full capacity with water pumped out of the Mount Hope Mine Complex and would provide total storage capacity of 4,250 to 4,900 acre-feet. During operation, the normal maximum water surface elevation in the upper reservoir would be 1,600 feet below the ground surface, and the normal minimum water surface elevation would be 1,700 feet below the ground surface; (b) the Mt. Hope inactive mine would provide access to the lower reservoir located at 2,500 feet below the ground surface and comprised of underground caverns; (c) a reinforced concrete intake/outtake structure capable of discharging 1,500 cfs; (d) a 10-foot-diameter, 1,100 foot-long reinforced concrete vertical intake shaft; (e) a 300-foot-long, 8-foot-diameter concrete-lined underground penstock; (f) a powerhouse machine hall approximately 2,800 feet below ground containing a reversible pump turbine with a total installed generating capacity of 250 MW; (g) a transformer hall; (h) a lower reservoir; (i) a ventilation shaft and ventilation building at the northern end of the lower reservoir; and (j) various ancillary access shafts and tunnels.

The rated capacity of the turbines and generators is one gigawatt. Upon completion of the four stages, the proposed project would generate a maximum of 2,080 gigawatt-hours annually. The proposed project would also include two parallel 10.60 mile-long, 500-kV transmission lines interconnecting with the proposed Jefferson Substation, located approximately 5.3 miles north-northwest of Mr. Hope Lake. The transmission line right-of-way would parallel an existing transmission line owned by Public Services Electric and Gas Company for 4.3 miles and would traverse mostly undeveloped forest lands, two lakes and five streams. The primary transmission line of the proposed project would be located in part on federal land. Specifically, the transmission line would traverse a portion of the northern and eastern edge of the U.S. Army's Picatinny Arsenal for a total of approximately 2.4 miles.

k. Location of Applications: A copy of the application is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item g above.

l. Individuals desiring to be included on the Commission's mailing list should so indicate by writing to the Secretary of the Commission.

m. Competing Preliminary Permit—Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

n. Competing Development Application—Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

o. Notice of Intent—A notice of intent must specify the exact name, business address, and telephone number of the prospective applicant, and must include an unequivocal statement of intent to submit, if such an application may be filed, either a preliminary permit application or a development application (specify which type of application). A notice of intent must be served on the applicant(s) named in this public notice.

p. Proposed Scope of Studies under Permit—A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

q. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

r. Filing and Service of Responsive Documents—Any filings must bear in all capital letters the title “COMMENTS”, “NOTICE OF INTENT TO FILE COMPETING APPLICATION”, “COMPETING APPLICATION”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

s. Agency Comments—Federal, state, and local agencies are invited to file comments on the described application. A copy of the application may be obtained by agencies directly from the Applicant. If an agency does not file comments within the time specified for filing comments, it will be presumed to have no comments. One copy of an agency's comments must also be sent to the Applicant's representatives.

Philis J. Posey,
Deputy Secretary.

[FR Doc. E7-7514 Filed 4-19-07; 8:45 am]

BILLING CODE 6717-01-P